DEPARTMENT OF TRANSPORTATION

Federal Aviation Administration

[Docket No. 2009-1144]

Airport Privatization Pilot Program

AGENCY: Federal Aviation Administration (FAA), DOT.

ACTION: Notice of receipt of application: Commencement of public review and comment period; notice of public meeting.

SUMMARY: The Federal Aviation Administration (FAA) received the final application from the Puerto Rico Ports Authority and Puerto Rico Public-Private Partnerships Authority for the participation of Luis Muñoz Marín International Airport, San Juan, Puerto Rico (SJU) in the Airport Privatization Pilot Program and has determined that the final application is substantially complete and accepted for review. The FAA is seeking information and comments from interested parties on the final application. In furtherance of this effort, the Department of Transportation (DOT), the Federal Aviation Administration and the Transportation Security Administration will conduct a public meeting on Friday, September 28, 2012, in San Juan, Puerto Rico.

Title 49 U.S.C. Section 47134 establishes an airport privatization pilot program and authorizes the Department of Transportation to grant exemptions from certain Federal statutory and regulatory requirement for up to five airport privatization projects. The FAA Modernization and Reform Act of 2012 expanded the pilot program from five to ten airports. The application procedures require the FAA to publish a notice of receipt of the final application in the Federal Register and accept public comment on the final application for a period of 60 days.

DATES: Comments must be received by November 19, 2012. Comments that are received after that date will be considered only to the extent possible.

Comments Invited

On Friday, September 28, 2012, beginning at 8 a.m., the Department of Transportation, Federal Aviation Administration will conduct a public meeting to receive oral comments about the Luis Muñoz Marín International Airport final application; the Transportation Security Administration will also participate.

ADDRESSES: The meeting will be held at: Verdanza Hotel, 8020 Tartak Street, Isla Verde, Puerto Rico 00979, 1-787-253-9000.

The purpose of the public meeting is to receive comments from airport users and employees, airlines, aviation businesses and airport tenants, elected officials and community residents about the concerns, advantages or disadvantages of transferring the airport to a private operator. The Federal panel will begin accepting comments at:

Schedule | Group category
0800-0900 | Airport Officials
0900-1000 | Government Officials
1000-1100 | Airport Employees
1100-1200 | Airport Businesses
1:30 p.m.-3 p.m | General Aviation
3 p.m.-5 p.m | General Public

Individuals wishing to address the Federal panel are limited to a five minute presentation. Those individuals needing more time can put their additional comments in writing and submit to the FAA the day of the listening session or submit at a later time to the below named addresses.

Advance Registration

Individuals wanting to address the Federal panel are strongly encouraged to pre-register by emailing their name, affiliation and applicable group category to LMN-publicmeeting@faa.gov. Advance registration will close Wednesday, September 26 at 5.p.m.

On-Site Registration

On-site registration will begin 7:30 a.m. and close at 12 noon. All testimony will be completed no later than 6 p.m.

Comments

You may also send written comments by any of the following methods.

• Federal eRulemaking Portal: Go to http://www.regulations.gov and follow the instructions for sending your comments electronically. Docket Number: FAA 2009-1144.

• Mail: Docket Management Facility, U.S. Department of Transportation, 1200 New Jersey Avenue SE., West Building Ground Floor, Room W12-140, Washington DC 20590-0001.

• Hand Delivery: Deliver to mail address above between 9 a.m. and 5 p.m. EST, Monday through Friday, except Federal holidays.

• Fax: (202) 493-2251

Identify all transmission with “Docket Number FAA 2009-1144” at the beginning of the document.

Examining the Application

The final application has been filed under Docket Number FAA-2009-1144. You may examine the final application on the Internet at: http://www.regulations.gov or on the FAA's Web site www.faa.gov or in person at the Docket Operations office between 9 a.m. and 5 p.m. EST, Monday through Friday, except Federal holidays. The Docket Operations Office (800-647-5527) is located at the U.S. Department of Transportation, 1200 New Jersey Avenue SE., West Building Ground Floor, Room W12-140, Washington DC 20590-0001. The Docket contains the preliminary and final application, the agreements, any comments received and other information. The Puerto Rico Ports Authority (PRPA) has also made copies of the final application available at the following location:

English Translation

Puerto Rico Department of State, One-Stop Service Center, Corner of San José Street and San Francisco Street, Diputacion Provincial Building, Old San Juan, Puerto Rico.

Spanish Translation

Department de Estado de Puerto Rico, Centro Único de Servicio, Edificio Diputación Provincial, Viejo San Juan, Puerto Rico.

FOR FURTHER INFORMATION CONTACT: Carlee Cellar, Airport Compliance Specialist, Airport Compliance Division, ACO-100, Office of Airport Compliance and Management Analysis, Federal Aviation Administration, 800 Independence Ave. SW., Washington, DC 20591. Telephone 202-267-3187.

SUPPLEMENTARY INFORMATION: Title 49 of the U.S. Code 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues for airport-related purposes, to pay back a portion of Federal grants upon the sale of an airport, and to return airport property deeded by the Federal Government upon transfer of the airport. The Administrator is also authorized to exempt the private purchaser or lessee from the requirements to use all airport revenues for airport-related purposes, to the extent necessary to permit the purchaser or lessee to earn compensation from the operations of the airport.

On September 16, 1997, the Federal Aviation Administration issued a notice of procedures to be used in applications for exemption under Airport Privatization Pilot Program (Notice of final application procedures for the Airport Privatization Pilot program: Application Procedures, 62 Federal Register 48693-48708 (September 16, 1997) (Notice) (as modified, 62 FR 63211, Nov. 26, 1997). A request for participation in the Pilot Program must be initiated by the filing of either a preliminary or final application for exemption with the Federal Aviation Administration.

The Puerto Rico Ports Authority and Puerto Rico Public-Private Partnerships Authority submitted a preliminary application to the Airport Privatization Pilot Program for Luis Muñoz Marín International Airport on December 1, 2009, the filing date of the preliminary application. On December 22, 2009, the Federal Aviation Administration advised the Puerto Rico Ports Authority and Puerto Rico Public-Private Partnerships Authority that the agency accepted the application for review and that they may select a private operator, negotiate an agreement and submit a final application. The preliminary application is posted on http://www.regulations.gov in Docket Number FAA 2009-1144 and is available for public review.

On September 10, 2012, the Puerto Rico Ports Authority and Puerto Rico Public-Private Partnerships Authority filed its final application. The Puerto Rico Ports Authority and Puerto Rico Public-Private Partnerships Authority selected Aerostar Airport Holdings, LLC, (AEROSTAR) to operate the Airport under a 40-year lease. The Puerto Rico Ports Authority will receive $615 million upon signing the lease and annual revenue payments over the life of the lease. In the final application, the Puerto Rico Ports Authority requested an exemption under 49 U.S.C. 47134(b)(1) to permit the Puerto Rico Ports Authority to use revenue from the lease of airport property for non-airport purposes and under 49 U.S.C. 47134(b)(2) to forego the repayment of Federal grants; and AEROSTAR asked for an exemption under 49 U.S.C. 47134(b)(3) to permit them to earn compensation from the operation of the airport.

The purpose of the public meeting scheduled for September 28, 2012, is to accept oral comments on the Luis Muñoz Marín International Airport final application, for inclusion in Docket Number FAA 2009-1144. The meeting will be recorded by a court reporter. A transcript of the meeting and any material accepted by the panel during the meeting will be included in the public docket posted on http://www.regulations.gov. The Federal panel will not be able to discuss the application or the pending agency decision because the final application is presently before the agency for a decision. Spanish/English translation will be made available at the meeting. Sign and oral interpretation can be made available at the meeting, if requested 10 calendar days before the meeting.

As part of its review of the final application, the FAA will consider all comments, written and oral, that are submitted by interested parties during the 60-day comment period for this notice.

Issued in Washington, DC, on September 11, 2012.
Randall Fiertz,
Director, Office of Airport Compliance and Management Analysis.

[FR Doc. 2012-22980 Filed 9-17-12; 4:15 pm]

BILLING CODE 4910-13-P